NUCLEAR REGULATORY COMMISSION

[NRC-2019-0097]

Information Collection: Nuclear Energy Innovation and Modernization Act Local Community Advisory Board Questionnaire

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, “Nuclear Energy Innovation and Modernization Act Local Community Advisory Board Questionnaire.”

DATES: Submit comments by August 8, 2019. Comments received after this date will be considered if it is practical to do so, but the Commission is able to ensure consideration only for comments received on or before this date.

ADDRESSES: Submit comments directly to the OMB reviewer at: OMB Office of Information and Regulatory Affairs (3150-XXXX), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2019-0097 when contacting the NRC about the availability of information for this action. You may obtain publicly-available information related to this action by any of the following methods:

• Federal rulemaking website: Go to https://www.regulations.gov/ and search for Docket ID NRC-2019-0097. A copy of the collection of information and related instructions may be obtained without charge by accessing Docket ID NRC-2019-0097 on this website.

• NRC's Agencywide Documents Access and Management System (ADAMS): You may obtain publicly-available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML19177A082. The supporting statement is available in ADAMS under Accession No. ML19177A084.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov/ and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a proposed collection of information to OMB for review entitled, “Nuclear Energy Innovation and Modernization Act Local Community Advisory Board Questionnaire.” The NRC hereby informs potential respondents that an agency may not conduct or sponsor, and that a person is not required to respond to, a collection of information unless it displays a currently valid OMB control number.

The NRC published a Federal Register notice with a 60-day comment period on this information collection on April 19, 2019 (84 FR 16547).

1. The title of the information collection: Nuclear Energy Innovation and Modernization Act Local Community Advisory Board Questionnaire.

2. OMB approval number: An OMB control number has not yet been assigned to this proposed information collection.

3. Type of submission: New.

4. The form number if applicable: Not applicable.

5. How often the collection is required or requested: Once.

6. Who will be required or asked to respond: Respondents will be the existing local community advisory boards in the vicinity of power reactors undergoing decommissioning, similar established stakeholder groups, or local government organizations.

7. The estimated number of annual responses: 15 (7 responses from sites with established local community advisory boards + 8 responses from sites where local community advisory boards have not been established).

8. The estimated number of annual respondents: 15 (7 sites with established local community advisory boards + 8 sites where local community advisory boards have not been established).

9. An estimate of the total number of hours needed annually to comply with the information collection requirement or request: 54 hours.

10. Abstract: The NRC is planning to coordinate activities in accordance with Section 108 of the Nuclear Energy Innovation and Modernization Act to collect information on the use of local community advisory boards during decommissioning activities and issue a best practices report. In order to ensure appropriate best practices are identified, the NRC has developed a questionnaire that will seek feedback in a number of areas related to the formation and operation of local community advisory boards. The questionnaire will address the following areas: The type of topics that might be brought before a community advisory board; how the board's input could inform the decision-making process for various decommissioning stakeholders; how the board might interact with other State and Federal agencies to promote dialogue between the licensee and impacted stakeholders; and how the board could offer opportunities for public engagement throughout the decommissioning process. The NRC will issue a report to Congress in June 2020 identifying best practices for establishment and operation of local community advisory boards.

Dated at Rockville, Maryland, this 2nd day of July, 2019.
For the Nuclear Regulatory Commission.
Kristen E. Benney,
Acting NRC Clearance Officer, Office of the Chief Information Officer.

[FR Doc. 2019-14483 Filed 7-8-19; 8:45 am]

BILLING CODE 7590-01-P